INTERNATIONAL TRADE COMMISSION

[Investigation No. 332-481]

Industrial Biotechnology: Development and Adoption by the U.S. Chemical and Biofuel Industries

AGENCY: United States International Trade Commission.

ACTION: Deadline for filing written submissions.

SUMMARY: The Commission has set February 1, 2008, as the deadline for filing written submissions in investigation No. 332-481, Industrial Biotechnology: Development and Adoption by the U.S. Chemical and Biofuel Industries.

DATES: February 1, 2008: Deadline for filing written submissions.

July 2, 2008: Transmittal of Commission report to the Senate Committee on Finance.

ADDRESSES: All Commission offices, including the Commission's hearing rooms, are located in the United States International Trade Commission Building, 500 E Street, SW., Washington, DC. All written submissions should be addressed to the Secretary, United States International Trade Commission, 500 E Street, SW., Washington, DC 20436. The public record for this investigation may be viewed on the Commission's electronic docket (EDIS) at http://edis.usit.gov.

FOR FURTHER INFORMATION CONTACT: Project Leader, David Lundy (202-205-3439 or david.lundy@usitc.gov); Deputy Project Leader, Elizabeth Nesbitt (202-205-3355 or elizabeth.nesbitt@usitc.gov); or Deputy Project Leader, Laura Polly (202-205-3408 or laura.polly@usitc.gov). For information on legal aspects of the investigation, contact William Gearhart of the Commission's Office of the General Counsel at 202-205-3091 or william.gearhart@usitc.gov. The media should contact Margaret O'Laughlin, Office of External Relations at 202-205-1819 or margaret.olaughlin@usitc.gov. Hearing impaired individuals are advised that information on this matter can be obtained by contacting the TDD terminal on 202-205-1810. General information concerning the Commission may also be obtained by accessing its Internet server (http://www.usitc.gov). Persons with mobility impairments who will need special assistance in gaining access to the Commission should contact the Secretary at 202-205-2000.

Background: The Commission's notice instituting the investigation, issued on November 28, 2006, asked that parties with an interest in this matter file post-hearing briefs and statements by May 2, 2007. In view of the relatively lengthy duration of this investigation, the Commission did not at that time set a final deadline for filing written submissions, beyond that for post-hearing briefs and statements. The Commission is now setting such a deadline. The Commission will consider submissions from parties who have not filed submissions, as well as new, amended, or supplemental submissions from parties who have already filed submissions, provided they are received by the Secretary on or before the close of business February 1, 2008. Submissions must be made in accordance with the procedures set out in the Commission's notice of November 28, 2006, including with respect to the number of copies filed, method of filing, and marking of any confidential business information. A copy of the November 28 notice can be accessed at http://www.usitc.gov/secretary/fed_reg_notices/332/332-481..1164741875.pdf.

The Commission is particularly interested in receiving written submissions from the public that provide information relating to the report that the Senate Committee on Finance has requested the Commission to prepare in this investigation. As stated in the Commission's notice published on November 28, 2006, the Committee requested that the Commission prepare a report that focuses on firms in the U.S. chemical industry that are developing bio-based products (e.g., fibers and plastics) and renewable chemical platforms, as well as U.S. producers of liquid biofuels, and specifically that the report—

1. Describe and compare government policies in the United States and key competitor countries throughout the world relating to the development of products by these industries;

2. Analyze the extent of business activity in these industries, including, but not limited to, trends in production, financial performance, investment, research and development, and impediments to development and trade;

3. Examine factors affecting the development of bio-based products, including liquid biofuels, and renewable chemical platforms being developed by the U.S. chemical industry, including, but not limited to, globalization of supply chains, capital investment sources, strategic alliances, intellectual property rights, and technology transfer mechanisms;

4. Determine, to the extent feasible, how the adoption of industrial biotechnology processing and products impacts the productivity and competitiveness of firms in these industries; and

5. Assess how existing U.S. government programs may affect the production and utilization of agricultural feedstocks for liquid biofuels as well as bio-based products and renewable chemical platforms being developed by the U.S. chemical industry.

Issued: September 21, 2007.
By order of the Commission.
Marilyn R. Abbott,
Secretary to the Commission.

[FR Doc. E7-19067 Filed 9-26-07; 8:45 am]

BILLING CODE 7020-02-P